NUCLEAR REGULATORY COMMISSION

Sunshine Federal Register Notice

AGENCY HOLDING THE MEETINGS: Nuclear Regulatory Commission.

DATES: Weeks of November 19, 26; December 3, 10, 17, 24, 2007.

PLACE: Commissioners' Conference Room, 11555 Rockville Pike, Rockville, Maryland.

STATUS: Public and Closed.

MATTERS TO BE CONSIDERED:

Week of November 19, 2007

Tuesday, November 20, 2007

9:05 a.m.

Affirmation Session (Public Meeting) (Tentative).

a. Pacific Gas and Electric Co. (Diablo Canyon ISFSI), Docket No. 72-26-ISFSI, San Luis Obispo Mothers for Peace's Contentions and Request for a Hearing Regarding Diablo Canyon Environmental Assessment Supplement (Tentative).

b. Dominion Nuclear North Anna, LLC (Early Site Permit for North Anna ESP Site), LBP-07-9 (June 9, 2007) (Tentative).

Week of November 26, 2007—Tentative

Tuesday, November 27, 2007.

9:30 a.m.

Discussion of Security Issues (Closed—Ex. 1 & 3).

1:30 p.m.

Briefing on Equal Employment Opportunity (EEO) Programs (Public Meeting) (Contact: Sandra Talley, 301 415-8059).

This meeting will be webcast live at the Web address— http://www.nrc.gov.

Week of December 3, 2007—Tentative

Friday, December 7, 2007

10 a.m.

Discussion of Intragovernmental Issues (Closed—Ex. 1 & 9).

2 p.m.

Briefing on Threat Environment Assessment (Closed—Ex. 1).

Week of December 10, 2007—Tentative

Wednesday, December 12, 2007

9:30 a.m.

Discussion of Management Issues (Closed—Ex. 2).

Week of December 17, 2007—Tentative

There are no meetings scheduled for the Week of December 17, 2007.

Week of December 24, 2007—Tentative

There are no meetings scheduled for the Week of December 24, 2007.

*The schedule for Commission meetings is subject to change on short notice. To verify the status of meetings, call (recording)—(301) 415-1292. Contact person for more information: Michelle Schroll, (301) 415-1662.

Additional Information

“Discussion of Management Issues (Closed—Ex. 2)” previously scheduled on Thursday, December 13, 2007, at 9:30 a.m. has been postponed.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at REB3@nrc.gov. Determinations on requests for reasonable accommodation will be made on a case-by-case basis.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: November 15, 2007.
R. Michelle Schroll,
Office of the Secretary.

[FR Doc. 07-5772 Filed 11-16-07; 11:31 am]

BILLING CODE 7590-01-P